DEPARTMENT OF LABOR

Employment and Training Administration

[TA-W-52,310]

Stopfill, Inc., Mt. Pleasant, PA; Notice of Termination of Investigation

Pursuant to Section 221 of the Trade Act of 1974, as amended, an investigation was initiated on July 15, 2003, in response to a worker petition filed by a company official on behalf of workers at Stopfill, Inc., Mt. Pleasant, Pennsylvania.

The subject worker group is covered by a petition filed on July 2, 2003 that is the subject of an ongoing investigation for which a determination has not yet been issued (TA-W-52,312). Further investigation in this case would duplicate efforts and serve no purpose; therefore the investigation under this petition has been terminated.

Signed at Washington, DC, this 4th day of August 2003.
Richard Church,
Certifying Officer, Division of Trade Adjustment Assistance.

[FR Doc. 03-20726 Filed 8-13-03; 8:45 am]

BILLING CODE 4510-30-P